DEPARTMENT OF LABOR

Employment and Training Administration

Notice of Availability of Funds and Solicitation for Grant Applications for Indian and Native American Employment and Training Programs; Solicitation for Grant Applications and Announcement of Competition Waivers for Program Years 2012 and 2013

AGENCY: Employment and Training Administration, Department of Labor.

Announcement Type: Solicitation for Grant Applications (SGA).

Funding Opportunity Number: SGA/DFA PY 11-07.

SUMMARY: The Employment and Training Administration (ETA), U.S. Department of Labor (the Department), announces the availability of $47,561,938 in adult program funding and $12,365,295 in youth program funding to grantees designated to provide employment and training services to Indians, Alaska Natives, and Native Hawaiians under section 166 of the Workforce Investment Act (WIA) for Program Year (PY) 2012 (July 1, 2012 through June 30, 2013). Approximately $1,418,542 of these funds is available for competition for the Comprehensive Services Program (Adult), and approximately $8,138 of these funds is available for the Supplemental (Youth) Services Program. The SGA contains the procedures by which the Department will select and designate the WIA section 166 grantees for PY 2012 and 2013 (July 1, 2012 through June 30, 2014).

As a general matter, the Department is required to select grantees, on a competitive basis, every two years. However, the Secretary of Labor (the Secretary) has the authority (WIA section 166(c)(2)) to waive the requirement for competition where current grantees are performing satisfactorily. Further, based on our observance of the principles of self-determination embodied in section 102 of the Indian Self-Determination and Education Assistance Act (25 U.S.C. 450a), as implemented by 20 CFR 668.120, entities that have legal jurisdiction over their requested geographic service areas receive the highest priority for designation (20 CFR 668.210(a)). Such tribal entities will be awarded the grants for their geographic service areas without competition provided that they are found responsible to manage federal funds and meet all other designation requirements.

The complete SGA and any subsequent SGA amendments, in connection with this solicitation are described in further detail on ETA's Web site at http://www.doleta.gov/grants/ or on http://www.grants.gov. The Web sites provide application information, eligibility requirements, review and selection procedures and other program requirements governing this solicitation.

DATES: The closing date for receipt of applications is April 18, 2012.

FOR FURTHER INFORMATION CONTACT: Gwendolyn Baron-Simms, 200 Constitution Avenue NW., Room N-4716, Washington, DC 20210; Telephone: 202-693-3309.

Signed March 12, 2012 in Washington, DC.
B. Jai Johnson,
Grant Officer, Employment and Training Administration.

[FR Doc. 2012-6287 Filed 3-15-12; 8:45 am]

BILLING CODE 4510-FN-P